DEPARTMENT OF COMMERCE

National Institute of Standards and Technology

[Docket No. 101006483-1035-02]

Correction to Notice Soliciting Comments on Proposed Voluntary Product Standard PS 2-10 and Reopening of Comment Period

AGENCY: National Institute of Standards and Technology, Commerce.

ACTION: Correction to notice and request for comments.

SUMMARY: On October 29, 2010, the National Institute of Standards and Technology published a notice in the Federal Register requesting comments on Proposed Voluntary Product Standard PS 2-10. The title of the notice incorrectly gave the title of Proposed Voluntary Product Standard PS 2-10 as “Structural Plywood.” The correct title of the proposed standard is “Performance Standard for Wood-Based Structural-Use Panels,” and appears in the body of the notice. NIST is issuing this notice to inform the public of the correct title of the October 29 notice and to reopen the comment period to encourage the public to submit comments on the proposed standard.

DATES: Written comments regarding the proposed revision, should be submitted to the Standards Services Group, NIST, no later than March 14, 2011.

ADDRESSES: An electronic copy (an Adobe Acrobat File) of the proposed standard, PS 2-10, can be obtained at the following Web site: http://gsi.nist.gov/global/index.cfm/L1-5/l2-44/A-355. This site also includes an electronic copy of PS 2-04 (the existing standard) and a summary of significant changes. Written comments on the proposed revision should be submitted to David F. Alderman, Standards Services Group, NIST, 100 Bureau Drive, Stop 2150, Gaithersburg, MD 20899-2150. Electronic comments may be submitted to david.alderman@nist.gov.

FOR FURTHER INFORMATION CONTACT: David F. Alderman, Standards Services Group, National Institute of Standards and Technology, telephone: (301) 975-4019; fax: (301) 975-4715, e-mail: david.alderman@nist.gov.

SUPPLEMENTARY INFORMATION: On October 29, 2010, the National Institute of Standards and Technology published a notice in the Federal Register requesting comments on Proposed Voluntary Product Standard PS 2-10 (75 FR 66734). The title of the notice incorrectly gave the title of Proposed Voluntary Product Standard PS 2-10 as “Structural Plywood.” The correct title of the proposed standard is “Performance Standard for Wood-Based Structural-Use Panels,” and appears in the body of the notice. NIST is issuing this notice to inform the public of the correct title of the October 29 notice and to extend the period for submission of comments on the proposed standard.

The deadline for submission of comments given in the October 29 notice was November 29, 2010. Due to confusion that may have been caused by the incorrect title of the October 29 notice, NIST is reopening the public comment period. In addition, comments received between November 29, 2010 and publication of this notice are deemed timely.

As stated in the October 29, 2010 notice requesting public comments, the National Institute of Standards and Technology (NIST) is proposing to revise Voluntary Product Standard (PS) 2-04, Performance Standard for Wood-Based Structural-Use Panels. This revised standard, PS 2-10, was prepared by the Standing Committee for PS 2 and establishes requirements, for those who choose to adhere to the standard, for the structural criteria to assess the acceptability of wood-based structural-use panels for construction sheathing and single-floor applications. It also provides a basis for common understanding among the producers, distributors, and the users of these products. Interested parties are invited to review the proposed standard and submit comments to NIST. For the public's convenience, NIST has reprinted below the information contained in the October 29, 2010 notice.

Proposed Voluntary Product Standard PS 2-10 establishes structural criteria for assessing the acceptability of wood-based structural-use panels for construction sheathing and single-floor application, and provides a basis for common understanding among the producers, distributors, and the users of these products. After conducting a review of the current standard, PS 2-04, the Standing Committee for PS 2 determined that updates were needed to reflect current industry practices, and developed this proposal through meetings to review the standard and propose needed changes. The proposed standard does not address non-structural issues such as resistance to biological agents. Applications for structural plywood other than construction sheathing and single-floor sheathing may require additional engineering considerations that are not covered by this document.

The proposed revision of the standard has been developed and is being processed in accordance with Department of Commerce provisions in Title 15 of the U.S. Code of Federal Regulations, Part 10, Procedures for the Development of Voluntary Product Standards, as amended (published June 20, 1986). The Standing Committee for PS 2 is responsible for maintaining, revising, and interpreting the standard, and is comprised of producers, distributors, users, and others with an interest in the standard. Committee members voted on the revision, which was approved unanimously. The Committee then submitted a report to NIST along with the voting results and the draft revised standard. NIST has determined that the revised standard should be issued for public comment.

The revision includes the following changes:

• Panel thickness: In order to resolve the inconsistency with NIST standards used by “weights and measures” regulators, PS 2 will require labeling with both a “Performance Category,” which is a fractional label such as 15/32, and a decimal thickness declaration, such as “THICKNESS 0.438 IN.” The Performance Category will maintain consistency with the panel thickness specifications required in the U.S. model codes. The Performance Category panel labeling will permit the abbreviations “PERF CAT,” “CAT” or “Category.” The decimal thickness declaration will help assure that panels are compliant with weights and measures regulations.

• Two nonmandatory appendices were added to provide guidance on NIST Handbook 130 “Packaging and Labeling Regulations,” and to provide suggested thickness labeling.

• Nonmandatory appendices on attributes related to Green Building and Formaldehyde were added.

• A nonmandatory appendix on the history of PS 2 was added.

• The moisture content specifications for the “dry,” “wet/redry” and “wet” test conditions were clarified in various sections of the standard.

• The tables containing performance requirements were modified to provide clarity and references to the sections of the standard that provide the test methods and pass/fail criteria used during the qualification process.

• The original fastener holding requirements for sheathing were based on thin plywood panels made with Group 4 species. Those panels are not representative of current sheathing panels. In addition, some U.S. model code requirements for wall sheathing were made more stringent, such that the existing nail holding requirements may not justify certain wind load conditions. Therefore, a test program to characterize the nail holding properties of current production was conducted by two testing agencies. Based on those test results, some requirements for nail holding performance of sheathing were increased.

All public comments will be reviewed and considered. The Standing Committee for PS 2 and NIST will revise the standard accordingly.

Dated: February 7, 2011.
Charles H. Romine,
Acting Associate Director for Laboratory Programs.

[FR Doc. 2011-3118 Filed 2-10-11; 8:45 am]

BILLING CODE 3510-13-P